DEPARTMENT OF LABOR

Employment and Training Administration

[TA-W-53,631]

Main Street Textiles LP Joan Fabrics Corporation Fall River, Massachusetts; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance on December 3, 2003, applicable to workers of Main Street Textiles LP, Fall River, Massachusetts. The notice will be published soon in the Federal Register.

At the request of the company, the Department reviewed the certification for workers of the subject firm. The workers are engaged in the production of jacquard furniture fabric.

New information shows that Joan Fabrics Corporation is the parent firm of Main Street Textiles LP. Some of the workers separated from employment at the subject firm had their wages reported under a separate unemployment insurance (UI) tax accounts for Joan Fabrics Corporation.

Accordingly, the Department is amending the certification to properly reflect this matter.

The intent of the Department's certification is to include all workers of Main Street Textiles LP, Fall River, Massachusetts who were adversely affected by a shift in production of woven textiles to Mexico.

The amended notice applicable to TA-W-53,631 is hereby issued as follows:

“All workers of Main Street Textiles LP, Joan Fabrics Corporation, Fall River, Massachusetts, who became totally or partially separated from employment on or after November 18, 2002, through December 3, 2005, are eligible to apply for adjustment assistance under section 223 of the Trade Act of 1974, and are also eligible to apply for alternative trade adjustment assistance under section 246 of the Trade Act of 1974.”

Signed at Washington, DC this 15th day of September 2004.
Linda G. Poole,
Certifying Officer, Division of Trade Adjustment Assistance.

[FR Doc. E4-2330 Filed 9-22-04; 8:45 am]

BILLING CODE 4510-30-P